DEPARTMENT OF HOUSING AND URBAN DEVELOPMENT

Office of Federal Housing Enterprise Oversight

12 CFR Chapter XVII

Notice of Safety and Soundness Regulation

AGENCY: Office of Federal Housing Enterprise Oversight, HUD.

ACTION: Notice of regulatory project.

SUMMARY: Office of Federal Housing Enterprise Oversight (OFHEO) is issuing notice of a regulatory project designed to ensure the adoption and implementation of various written policies and procedures for the supervision of Federal National Mortgage Association and the Federal Home Loan Mortgage Corporation (the “enterprises”). In accordance with OFHEO's supervisory mandate, as established in Title XIII of the Housing and Community Development of Act of 1992, known as the Federal Housing Enterprises Financial Safety and Soundness Act of 1992, OFHEO will formalize ongoing supervisory policies and procedures that are reflected in the agency's various examination guidelines and other supervisory pronouncements, and update and revise its supervisory standards in light of market changes. The effect of this project is to enhance safety and soundness, to clarify interpretations of applicable laws and regulations, to provide greater transparency to and public understanding of the regulatory regime affecting the enterprises, and to provide a clear expression of the regulatory basis for OFHEO action in matters of supervisory concern.

FOR FURTHER INFORMATION CONTACT: Alfred M. Pollard, General Counsel, or David W. Roderer, Deputy General Counsel, Office of Federal Housing Enterprise Oversight, 1700 G. Street, NW., Fourth Floor, Washington, DC 20552, telephone (202) 414-6924 (not a toll free number). The telephone number for the Telecommunications Device for the Deaf is: (800) 877-8339.

SUPPLEMENTARY INFORMATION: The Office of Federal Housing Enterprise Oversight (OFHEO) is charged by Congress with overseeing the business conduct and financial operations of the Federal National Mortgage Association and the Federal Home Loan Mortgage Corporation in order to, among other things, ensure that they are adequately capitalized and operating safely. In furtherance of its supervisory responsibilities, the agency is empowered to adopt safety and soundness standards, to conduct examinations monitoring compliance by the enterprises with such standards, and to enforce compliance with the standards it may establish.

OFHEO has since its inception in 1993 operated under a system largely without a full complement of promulgated regulatory standards or procedures. The agency relies primarily upon the strength of its examination staff, examination guidelines and procedures, and unpublished letters. Little public recognition exists of the prudential standards under which the enterprises successfully operate. The project will produce greater transparency of OFHEO's regulatory processes and the safeguards affecting the secondary market entities. The resulting increased public awareness of the supervisory standards applicable to this critical segment of housing finance should promote enhanced market understanding of the relative strengths and viability of the enterprises.

In accordance with OFHEO's supervisory mandate under Pub. L. No. 102-550, the agency is undertaking a regulatory project designed to ensure the adoption and implementation of written policies and procedures for the enterprises that address, among other matters, (1) management responsibilities (addressing board and senior management roles and responsibilities, and minimum internal control standards for monitoring and reporting policies and procedures affecting specified subject areas); (2) risk management (formalizing quantitative and qualitative standards in appropriate areas including asset-related matters, credit risk, interest rate risk, and operational risks); (3) investments (addressing limits on types of investments and setting forth record keeping and disclosure requirements); (4) information systems security and integrity (formalizing standards and safeguards); (5) financial information disclosure (specifying applicable disclosure standards); (6) executive compensation (codifying procedures and standards for agency review of senior executive compensation and termination benefits); and, (7) enforcement policies and procedures (clarifying relevant procedures and formal and informal enforcement sanctions available to the agency).

Dated: July 20, 2000.
Armando Falcon, Jr.,
Director, Office of Federal Housing Enterprise Oversight.

[FR Doc. 00-18833 Filed 7-26-00; 8:45 am]

BILLING CODE 4220-01-U